DEPARTMENT OF AGRICULTURE

Rural-Business Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's (RBS) intention to request an extension of a currently approved information collection in support of the program for “Renewal Energy and Energy Efficiency Improvements Program.”

DATES: Comments on this notice must be received by March 10, 2008, to be assured of consideration.

FOR FURTHER INFORMATION CONTACT: William C. Smith, Rural Business-Cooperative Service, USDA, STOP 3225, 1400 Independence Ave., SW., Washington, DC 20250-3225, Telephone: (202) 205-0903.

SUPPLEMENTARY INFORMATION: Title: Renewal Energy and Energy Efficiency Improvements Program.

OMB Number: 0570-0050.

Expiration Date of Approval: July 31, 2008.

Type of Request: Extension of a currently approved information collection.

Abstract: The collection of information is vital for Rural Development to make wise decisions regarding the eligibility of applicants and borrowers, establish selection priorities among competing applicants, ensure compliance with applicable Rural Development regulations, and effectively monitor the grantees and borrowers activities to protect the Government's financial interest and ensure that funds obtained from the Government are used appropriately. This information will be used to determine applicant eligibility, to determine project eligibility and feasibility, and to ensure that grantees/borrowers operate on a sound basis and use funds for authorized purposes.

Estimate of Burden: Public reporting burden for this collection of information is estimated to average 5 hours per response.

Respondents: Farmers, Ranchers, and Rural Small Businesses.

Estimated Number of Responses per Respondents: 469.

Estimated Number of Responses per Respondent: 13.

Estimated Number of Responses: 6,241.

Estimated Total Annual Burden on Respondents: 30,160.

Copies of this information collection can be obtained from Cheryl Thompson, Regulations and Paperwork Management Branch, at (202) 692-0043.

Comments

Comments are invited on: (a) Whether the proposed collection of information is necessary for the proper performance of the functions of RBS, including whether the information will have practical utility; (b) the accuracy of RBS estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Cheryl Thompson, Regulations and Paperwork Management Branch, U.S. Department of Agriculture, Rural Development, STOP 0742, 1400 Independence Ave., SW., Washington, DC 20250-0742. All responses to this notice will be summarized and included in the request for OMB approval. All comments will also become a matter of public record.

Dated: December 11, 2007.
Ben Anderson,
Administrator, Rural Business-Cooperative Service.

[FR Doc. E8-142 Filed 1-8-08; 8:45 am]

BILLING CODE 3410-XY-P